DEPARTMENT OF DEFENSE

Office of the Department of the Air Force

Notice of Federal Advisory Committee Meeting

AGENCY: Department of the Air Force, Board of Visitors of the Air Force Academy.

ACTION: Notice of federal advisory committee meeting.

SUMMARY: The Department of Defense (DoD) is publishing this notice to announce that the following Federal Advisory Committee meeting of the Board of Visitors (BoV) of the U.S. AirForce Academy (USAFA) will take place.

DATES: Open to the public Thursday, August 24, 2023 from approximately 8 a.m. to 5 p.m. (Mountain Time).

ADDRESSES: The meeting will occur at the United States Air Force Academy, Colorado Springs, Colorado, as well as virtually. Members of the public will only be allowed to attend the meeting virtually. The link for the virtual meeting can be found at: https://www.usafa.edu/about/bov/ and will be active approximately thirty minutes before the start of the meeting.

FOR FURTHER INFORMATION CONTACT:

Designated Federal Officer: Mr. Anthony R. McDonald, bov@afacademy.af.edu, (703) 614-4751, 1660 Air Force Pentagon, Washington DC 20330-1660.

Alternate Designated Federal Officer: Mr. James M. Wilmer, bov@afacademy.af.edu, (719) 333-0472, 2304 Cadet Drive, Suite 3200, USAF Academy, CO 80840-5025.

USAFA BoV Website: https://www.usafa.edu/about/bov/. Contains information on the Board of Visitors, link to the virtual meeting, and approved meeting agenda.

SUPPLEMENTARY INFORMATION: This meeting is being held under the provisions of the Federal Advisory Committee Act (FACA) of 1972 (5 U.S.C. 1001 et seq.), the Government in the Sunshine Act of 1976 (5 U.S.C. 552b, as amended), and 41 CFR 102-3.140 and 102-3.150.

Purpose of the Meeting: In accordance with 10 U.S.C. 9455(e)(1), the Board shall inquire into the morale, discipline, social climate, curriculum, instruction, physical equipment, fiscal affairs, academic methods, and other matters relating to the Academy that the Board decides to consider.

Written Statements: Any member of the public wishing to provide input to the Board of Visitors of the U.S. Air Force Academy should submit a written statement in accordance with 41 CFR 102-3.105(j) and § 102-3.140 and § 1009(a)(3) of the FACA. The public or interested organizations may submit written comments or statements to the BoV about its mission and/or the topics to be addressed in the open sessions of this public meeting. Written comments or statements should be submitted to the Alternate Designated Federal Officer via electronic mail, at the email address listed in the FOR FURTHER INFORMATION CONTACT section in the following formats: Adobe Acrobat and/or Microsoft Word. The comment or statement must include the author's name, title, affiliation, address, and daytime telephone number. Written comments or statements being submitted in response to the agenda set forth in this notice must be received at least five (5) business days prior to the meeting so they may be made available to the BoV Chairman for consideration prior to the meeting. Written comments or statements received after August 16, 2023, may not be provided to the BoV until its next meeting. Please note that because the BoV operates under the provisions of the FACA, as amended, all written comments will be treated as public documents and will be made available for public inspection.

Tommy W. Lee,
Acting Air Force Federal Register Liaison Officer.

[FR Doc. 2023-15438 Filed 7-19-23; 8:45 am]

BILLING CODE 5001-10-P